DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 20, 2006.

Interested persons are invited to submit written comments regarding the subject matter of the investigations to the Director, Division of Trade Adjustment Assistance, at the address shown below, not later than March 10, 2006.

The petitions filed in this case are available for inspection at the Office of the Director, Division of Trade Adjustment Assistance, Employment and Training Administration, U.S. Department of Labor, Room C-5311, 200 Constitution Avenue, NW., Washington, DC 20210.

Signed at Washington, DC this 24th day of February 2006.
Erica R. Cantor,
Director, Division of Trade Adjustment Assistance.

Appendix
[TAA petitions instituted between 2/6/06 and 2/17/06]
TA-W | Subject firm (petitioners) | Location | Date of institution | Date of petition
58787 | CommScope, Inc. of North Carolina (Comp) | Scottsboro, AL | 02/06/06 | 01/27/06
58788 | Pulse Specialty Company (State) | Greensboro, MD | 02/06/06 | 02/03/06
58789 | FCI USA, Inc. (Comp) | Etters, PA | 02/06/06 | 01/30/06
58790 | Cardinal Health 200 (Comp) | Asheville, NC | 02/06/06 | 01/10/06
58791 | NorCap Limited Partnership (Wkrs) | Gastonia, NC | 02/06/06 | 01/26/06
58792 | Staffing Solutions (Comp) | El Paso, TX | 02/06/06 | 01/25/06
58793 | Sirenza Microdevices, Inc. (State) | Broomfield, CO | 02/07/06 | 02/06/06
58794 | Kyocera Wireless Corp. (State) | Boulder, CO | 02/07/06 | 02/06/06
58795 | Jones and Vining (State) | Walnut Ridge, AR | 02/07/06 | 02/06/06
58796 | Hastings Manufacturing Co. (State) | Hastings, MI | 02/07/06 | 02/06/06
58797 | TM Tool and Die, Inc. (Wkrs) | Wade, NC | 02/07/06 | 02/02/06
58798 | Haworth Press, Inc. (The) (Comp) | Binghamton, NY | 02/07/06 | 02/06/06
58799 | Commonwealth Aluminum Concast, Inc. (Comp) | Long Beach, CA | 02/07/06 | 02/03/06
58800 | Abco Rents of Clinton (Comp) | Clinton, SC | 02/07/06 | 01/14/06
58801 | Sony Electronics, Inc. (Wkrs) | Mt. Pleasant, PA | 02/07/06 | 02/07/06
58802 | F. Schumacher and Company (Comp) | Richburg, SC | 02/09/06 | 02/08/06
58803 | Movie Star (Comp) | Petersburg, PA | 02/09/06 | 02/07/06
58804 | Republic Engineered Products, Inc. (Wkrs) | Akron, OH | 02/09/06 | 02/07/06
58805 | Collins Aikman Premier Molds (State) | Sterling Heights, MI | 02/09/06 | 02/03/06
58806 | Intier Automotive Seating of America, Inc. (Comp) | Red Oak, IA | 02/09/06 | 02/07/06
58807 | Panasonic Shikoku Electronics Corp. of America (Comp) | Vancouver, WA | 02/09/06 | 02/07/06
58808 | Lexmark International, Inc. (Wkrs) | Lexington, KY | 02/09/06 | 02/07/06
58809 | Henry Pratt Company (Comp) | Dixon, IL | 02/09/06 | 01/26/06
58810 | Dura Automotive Systems, Inc. (State) | Lawrenceburg, TN | 02/09/06 | 02/06/06
58811 | Electrolux Home Care Products North America (Comp) | El Paso, TX | 02/09/06 | 02/07/06
58812 | Libralters Plastics, Inc. (Wkrs) | Walled Lake, MI | 02/09/06 | 01/25/06
58813 | Masonite International Corporation (Comp) | Mobile, AL | 02/09/06 | 02/08/06
58814 | Harris N.A. (Wkrs) | Chicago, IL | 02/09/06 | 02/07/06
58815 | Central Coating and Assembly, Inc. (Comp) | Mt. Pleasant, MI | 02/09/06 | 02/08/06
58816 | Outokumpu Advanced Superconductors (Comp) | Waterbury, CT | 02/09/06 | 02/01/06
58817 | Fisher Controls (Comp) | Pawcatuck, CT | 02/09/06 | 02/01/06
58818 | Masonite DorFab (Comp) | Dickson, TN | 02/09/06 | 02/08/06
58819 | Bentwood Furniture, Inc. (Wkrs) | Grants Pass, OR | 02/09/06 | 02/08/06
58820 | Flexible Flyer Acquisition Wheel Goods Corp. (Wkrs) | West Point, MS | 02/09/06 | 02/08/06
58821 | Curly's Dairy/Wilcox Family Farms (Comp) | Salem, OR | 02/09/06 | 02/08/06
58822 | Century Tool and Manufacturing Co. (Comp) | Cherry Valley, IL | 02/09/06 | 02/09/06
58823 | Siemens (Wkrs) | Mountain View, CA | 02/09/06 | 01/31/06
58824 | Krueger International (Comp) | Tupelo, MS | 02/09/06 | 01/30/06
58825 | Leather Bella, LLC (Comp) | Randleman, NC | 02/10/06 | 02/09/06
58826 | After Six, Inc. (Comp) | Athens, GA | 02/10/06 | 02/07/06
58827 | Stucki Embroidery Works, Inc. (State) | Fairview, NJ | 02/10/06 | 01/19/06
58828 | Motorola, Inc./Integrated Supply Chain (Comp) | Fort Worth, TX | 02/10/06 | 02/09/06
58829 | Winspec Manufacturing (State) | Ronkonkoma, NY | 02/10/06 | 02/09/06
58830 | Lanier Clothes (Comp) | Greenville, GA | 02/13/06 | 02/08/06
58831 | Waterpik, Inc. (Comp) | Loveland, Co | 02/13/06 | 02/10/06
58832 | Honeywell Electronic Materials (Comp) | Spokane Valley, WA | 02/13/06 | 02/10/06
58833 | Greenpak, Inc. (Comp) | Florence, SC | 02/13/06 | 02/09/06
58834 | Morgan Advanced Technologies, USA (Comp) | Exeter, RI | 02/13/06 | 01/30/06
58835 | Ramtex, Inc. (Comp) | Ramseur, NC | 02/13/06 | 02/03/06
58836 | American Greetings (Comp) | Lafayette, TN | 02/13/06 | 02/13/06
58837 | ATEK Manufacturing (State) | Brainerd, MN | 02/13/06 | 02/13/06
58838 | Isabel Bloom LLC (Comp) | Davenport, IA | 02/13/06 | 02/09/06
58839 | Dan River, Inc. (State) | Calhoun Falls, SC | 02/13/06 | 02/09/06
58840 | VF Jeanswear Limited Partnership (Comp) | Irvington, AL | 02/14/06 | 02/14/06
58841 | Crossroads Systems, Inc. (State) | Austin, TX | 02/14/06 | 02/13/06
58842 | Boeing (McAlester, Oklahoma) (Wkrs) | Chicago, IL | 02/14/06 | 02/10/06
58843 | Align Technology, Inc. (Comp) | Santa Clara, CA | 02/14/06 | 02/08/06
58844 | All Phase Circuits (Comp) | Central Point, OR | 02/15/06 | 02/14/06
58845 | Dura Automotive (Wkrs) | Pikeville, TN | 02/15/06 | 02/10/06
58846 | Guilcraft of California (State) | Rancho Dominquez, CA | 02/15/06 | 02/14/06
58847 | McGraw-Hill Companies (Wkrs) | Columbus, OH | 02/15/06 | 02/15/06
58848 | Volvo Construction Equipment, NA (Comp) | Skyland, NC | 02/15/06 | 02/09/06
58849 | Michaels of Oregon (State) | Oregon City, OR | 02/16/06 | 02/14/06
58850 | American Fiber and Finishing, Inc. (Comp) | Newberry, SC | 02/16/06 | 02/14/06
58851 | Dal-Tile Corporation (Comp) | Jackson, TN | 02/16/06 | 02/15/06
58852 | Motorola, Inc./Integrated Supply Chain (Comp) | Fort Worth, TX | 02/16/06 | 02/09/06
58853 | Pressed Steel Tank Co., Inc. (Wkrs) | Milwaukee, WI | 02/16/06 | 02/15/06
58854 | IBM (Wkrs) | RTP, NC | 02/16/06 | 01/26/06
58855 | Crown, Cork, and Seal (State) | Abilene, TX | 02/16/06 | 02/15/06
58856 | Ensign-Bickford Company (Comp) | Spanish Fork, UT | 02/16/06 | 02/15/06
58857 | Core Source (State) | Brooklyn Park, MN | 02/16/06 | 02/16/06
58858 | Garden State Cutting Co., Inc. (Comp) | Passaic, NJ | 02/16/06 | 02/15/06
58859 | Midland Prints and Fabrics, Inc. (Comp) | Stenfield, NC | 02/16/06 | 02/16/06
58860 | St. John Companies, Inc. (The) (State) | Valencia, CA | 02/17/06 | 02/15/06
58861 | Campbell Hausfeld (Wkrs) | Leitchfield, KY | 02/17/06 | 02/02/06
58862 | La France Industries (Wkrs) | La France, SC | 02/17/06 | 02/07/06

[FR Doc. E6-3423 Filed 3-9-06; 8:45 am]

BILLING CODE 4510-30-P